DEPARTMENT OF DEFENSE

Department of the Navy

[No. USN-2008-0011]

Submission for OMB Review; Comment Request

ACTION: Notice.

The Department of Defense has submitted to OMB for clearance, the following proposal for collection of information under the provisions of the Paperwork Reduction Act (44 U.S.C. Chapter 35).

DATES: Consideration will be given to all comments received by June 2, 2008.

Title, Form, and OMB Number: Evaluation of Young Marines Drug Education Program; OMB Control Number 0703-TBD.

Type of Request: New.

Number of Respondents: 1,325.

Responses per Respondent: 1.189.

Annual Responses: 1,575.

Average Burden per Response: 39.85 minutes.

Annual Burden Hours: 1,046.

Needs and Uses: The information collection requirement is necessary for the Naval Health Research Center to carry out the research study it has been tasked to perform. This research study will assess the effectiveness of a Marine Corps-sponsored youth development program, the Young Marines, in reducing drug use and promoting a healthy, drug-free lifestyle among its youth participants. The information collected will be used to describe how the program is affecting drug behaviors and related measures and will allow recommendations to be made to improve youth drug education. Respondents to this study will include youth, approximately ages 11 through 18 years, in the Young Marines program and Young Marine adult leaders.

Affected Public: Individuals or households.

Frequency: On occasion.

Respondent's Obligation: Voluntary.

OMB Desk Officer: Ms. Sharon Mar.

Written comments and recommendations on the proposed information collection should be sent to Ms. Mar at the Office of Management and Budget, Desk Officer for DoD, Room 10236, New Executive Office Building, Washington, DC 20503. Comments may be e-mailed to Ms. Mar at Sharon_Mar@omb.eop.gov.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: April 25, 2008.
Patricia L. Toppings,
OSD Federal Register Liaison Officer, Department of Defense.

[FR Doc. E8-9714 Filed 5-1-08; 8:45 am]

BILLING CODE 5001-06-P